SOCIAL SECURITY ADMINISTRATION

[Docket No. SSA-2014-0044]

Notice of Senior Executive Service Performance Review Board Membership

AGENCY: Social Security Administration.

ACTION: Notice of Senior Executive Service Performance Review Board Membership.

Title 5, U.S. Code, 4314(c)(4), requires that the appointment of Performance Review Board members be published in the Federal Register before service on said Board begins.

The following persons will serve on the Performance Review Board which oversees the evaluation of performance appraisals of Senior Executive Service members of the Social Security Administration:

Donna Calvert

Hyacinth Hinojosa

James Julian

Michael Kramer *

Lydia Marshall

Natalie Lu *

Royce Min

Rosemary Stricks *

David Thomas *

Amy Thompson

Laura Train

* New Member

Dated: July 29, 2014.
Reginald F. Wells,
Deputy Commissioner for Human Resources.

[FR Doc. 2014-18560 Filed 8-5-14; 8:45 am]

BILLING CODE P